DEPARTMENT OF THE TREASURY

Internal Revenue Service

26 CFR Part 1

[REG-104464-18]

RIN 1545-BO55

Deduction for Foreign-Derived Intangible Income and Global Intangible Low-Taxed Income; Correction

AGENCY: Internal Revenue Service (IRS), Treasury.

ACTION: Correction to a notice of proposed rulemaking.

SUMMARY: This document contains a correction to a notice of proposed rulemaking (REG-104464-18) that was published in the Federal Register on Wednesday, March 6, 2019. The proposed regulations provided guidance to determine the amount of the deduction for foreign-derived intangible income and global intangible low-taxed income.

DATES: Written or electronic comments and requests for a public hearing for the notice of proposed rulemaking at 84 FR 8188 (March 6, 2019) are still being accepted and must be received by May 6, 2019.

FOR FURTHER INFORMATION CONTACT: Concerning proposed §§ 1.250(a)-1 through 1.250(b)-6, 1.962-1, 1.6038-2, 1.6038-3, and 1.6038A-2, Kenneth Jeruchim at (202) 317-6939; concerning proposed §§ 1.1502-12, 1.1502-13 and 1.1502-50, Michelle A. Monroy at (202) 317-5363 or Austin Diamond-Jones at (202) 317-6847; concerning submissions of comments and requests for a public hearing, Regina L. Johnson, (202) 317-6901 (not toll free numbers).

SUPPLEMENTARY INFORMATION:

Background

The proposed regulations that are the subject of this correction are under sections 250, 962, 1502, 6038, and 6038A of the Internal Revenue Code.

Need for Correction

As published, the proposed regulations contain errors which may prove to be misleading and need to be clarified.

Correction of Publication

Accordingly, the notice of proposed rulemaking published at 84 FR 8188 (March 6, 2019) is corrected as follows:

1. On page 8190, in the preamble, under the heading: “2. Determination of DEI and FDDEI”, in the third column, in the 23rd line, add a sentence at the end of the paragraph to read: “Finally, the proposed regulations define financial services income by reference to section 904(d)(2)(D) and proposed § 1.904-4(e)(1)(ii).”

§ 1.250(b)-1 [Corrected]

2. On page 8216, first column, the last line of paragraph (d)(3)(ii)(B)(2)(i), the language “distributive of PRS's gross FDDEI” is corrected to read “distributive share of PRS's gross FDDEI”.

Martin V. Franks,
Chief, Publications and Regulations Branch, Legal Processing Division, Associate Chief Counsel (Procedure and Administration).

[FR Doc. 2019-07118 Filed 4-10-19; 8:45 am]

BILLING CODE 4830-01-P